DEPARTMENT OF ENERGY

Federal Energy Regulatory Commission

[Project No. 3267-000]

Chasm Hydro, Inc.; Notice of Existing Licensee's Notice of Intent To Not File a Subsequent License Application, and Soliciting Pre-Application Documents and Notices of Intent To File a License Application

At least five years before the expiration of a license for a minor water power project not subject to sections 14 and 15 of the Federal Power Act (i.e., a project having an installed capacity of 1.5 megawatts or less), the licensee must file with the Commission a letter that contains an unequivocal statement of the licensee's intent to file or not to file an application for a subsequent license.¹

¹ 18 CFR 16.19(b) (2016) (citing 18 CFR 16.6(b)). Section 16.19(b) applies to licenses not subject to Parts 14 and 15 of the Federal Power Act.

If such a licensee informs the Commission that it does not intend to file an application for a new license, nonpower license, or exemption for the project, the licensee may not file an application for a new license, nonpower license, or exemption for the project, either individually or in conjunction with an entity or entities that are not currently licensees of the project.²

² 18 CFR 16.24(b) (2016).

On March 3, 2017, Chasm Hydro, Inc., the existing licensee for the Ballard Mills Project No. 3267, filed notice of its intent to not file an application for a subsequent license. Therefore, pursuant to section 16.24(b) of the Commission's regulations, Chasm Hydro, Inc. may not file an application for a subsequent license for the project, either individually or in conjunction with an entity or entities that are not currently licensees of the project.

The 255-kilowatt (kW) Ballard Mills project is located on the Salmon River in the Town of Malone, Franklin County, New York. No federal lands are affected. The existing minor license for the project expires on March 31, 2022.

The principal project works consist of: (1) an 8-foot-high, 110-foot-long concrete capped timber crib overflow dam with 2-foot-high flashboards creating a reservoir with a surface area of 10 acres and a volume of 50 acre feet; (2) a 105-foot-long earth embankment dam; (3) a 4.75-foot-wide sluice gate located at the west abutment of the dam; (4) two 8-foot-wide flood sluice gates located between the existing timber crib dam and powerhouse; (5) a 29-foot-long by 20-foot-wide concrete masonry powerhouse with a single horizontal shaft Kaplan turbine-generator unit rated at 255 kW; (6) an abandoned powerhouse structure located at the east abutment of the dam; (7) a 150-foot-long underground cable connecting to a transformer pole; (8) a 0.48/13.2-kilovolt transformer; (9) a 170-foot-long, 13.2-kilovolt overhead transmission line; and (10) appurtenant facilities.

Any party interested in filing a license application for the Ballard Mills Project No. 3267 must first file a Notice of Intent (NOI) ³ and pre-application document (PAD) ⁴ pursuant to Part 5 of the Commission's regulations. Although the integrated licensing process (ILP) is the default pre-filing process, section 5.3(b) of the Commission's regulations allows a potential license applicant to request to use alternative licensing procedures when it files its NOI.⁵

³ 18 CFR 5.5 (2016).

⁴ 18 CFR 5.6 (2016).

⁵ 18 CFR 5.3(b) (2016).

This notice sets a deadline of 120 days from the date of this notice for interested applicants, other than the existing licensee, to file NOIs, PADs, and requests to use an alternative licensing process.

Applications for a subsequent license from potential (non-licensee) applicants must be filed with the Commission at least 24 months prior to the expiration of the existing license.⁶ Because the existing license expires on March 31, 2022, applications for license for this project must be filed by March 31, 2020.⁷

⁶ 18 CFR 16.20 (2016).

⁷ To the extent an interested applicant files an NOI and PAD and elects or is required to use the Commission's ILP, a process plan will be issued within 180 days of this notice, which accelerates the steps of the ILP to allow for filing a subsequent license application by the March 31, 2020 deadline.

Questions concerning this notice should be directed to Gaylord Hoisington (202) 502-6032 or gaylord.hoisington@ferc.gov.

Dated: April 14, 2017.
Kimberly D. Bose,
Secretary.

[FR Doc. 2017-07995 Filed 4-19-17; 8:45 am]

BILLING CODE 6717-01-P